DEPARTMENT OF TRANSPORTATION

Federal Aviation Administration

Notice of Intent To Rule on Application To Impose and Use a Passenger Facility Charge (PFC) at Reno/Tahoe International Airport, Reno, NV

AGENCY: Federal Aviation Administration (FAA), DOT.

ACTION: Notice of Intent to Rule on Application.

SUMMARY: This correction revises information from previously published notice.

In notice document 97-6326 beginning on page 55911 in the issue Friday, August 30, 2002, under Supplementary Information, the proposed charge effective date should be October 1, 2003.

DATES: Comments must be received on or before October 17, 2002.

FOR FURTHER INFORMATION CONTACT: Marlys Vandervelde, Airports Program Analyst, San Francisco Airports District Office, 831 Mitten Road, Room 210, Burlingame, CA 94010-1303, Telephone: (650) 876-2806. The application may be reviewed in person at this same location.

Issued in Lawndale, California, on October 8, 2002.
Mia Paredes Ratcliff,
Manager, Planning and Programming Branch, Airports Division, Western-Pacific Region.

[FR Doc. 02-26466 Filed 10-17-02; 8:45 am]

BILLING CODE 4910-13-M